DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy.

U.S. Patent No. 4,990,291: Method of Making Lipid Tubules by a Cooling Process, Navy Case No. 71,049.//U.S. Patent No. 5,089,742: Electron Beam Source Formed with Biologically Derived Tubule Materials, Navy Case No. 72,385.//U.S. Patent No. 5,378,962: Method and Apparatus for a High Resolution, Flat Panel Cathodoluminescent Display Device, Navy Case No. 71,559.//U.S. Patent No. 5,651,976: Controlled Release of Active Agents Using Inorganic Tubules, Navy Case No. 76,652.//U.S. Patent No. 5,705,191: Sustained Delivery of Active Compounds from Tubules, with Rational Control, Navy Case No. 77,037.//U.S. Patent No. 5,744,337: Internal Gelation Method for Forming Multilayer Microspheres and Product Thereof, Navy Case No. 76,286.//U.S. Patent No. 6,013,206: Process for the Formation of High Aspect Ratio Lipid Microtubules, Navy Case No. 79,038.//U.S. Patent No. 6,401,816: Efficient Method for Subsurface Treatments, Including Squeeze Treatments, Navy Case No. 79,803.//Navy Case No. 77,839: Improved Method for High Efficiency Production of Lipid Microtubules with Rational Control of the Number of Bilayers in the Wall.//Navy Case No. 82,611: Multi-Geometry/Multi-Layered Controlled Delivery System for Hydrophobic Agents and Method of Information.//Navy Case No. 84,828: Waterbone Coating Containing Microcylindrical Conductors and Non-Conductive Space Filling Latex Polymers.

ADDRESSES: Requests for copies of the inventions cited should be directed to the Naval Research Laboratory, Code 1004, 4555 Overlook Avenue, SW., Washington, DC 20375-5320 and must include the Navy Case number.

FOR FURTHER INFORMATION CONTACT: Jane F. Kuhl, Head, Technology Transfer Office, NRL Code 1004, 4555 Overlook Avenue, SW., Washington, DC 20375-5320, telephone (202) 767-3083. Due to temporary U.S. Postal Service delays, please fax (202) 404-7920, E-Mail: kuhl@utopia.nrl.navy.mil or use courier delivery to expedite response.

(Authority: 35 U.S.C. 207, 37 CFR Part 404.)

Dated: April 2, 2004.
S.A. Hughes,
Lieutenant Commander, Judge Advocate General's Corps, U.S. Navy, Federal Register Liaison Officer.

[FR Doc. 04-8059 Filed 4-8-04; 8:45 am]

BILLING CODE 3810-FF-P